OFFICE OF PERSONNEL MANAGEMENT

5 CFR Part 843

RIN 3206-AN16

Federal Employees' Retirement System; Present Value Conversion Factors for Spouses of Deceased Separated Employees

AGENCY: Office of Personnel Management.

ACTION: Proposed rule.

SUMMARY: The Office of Personnel Management (OPM) is issuing a proposed rule to revise the table of reduction factors for early commencing dates of survivor annuities for spouses of separated employees who die before the date on which they would be eligible for unreduced deferred annuities. This rule is necessary to ensure that the tables conform to demographic assumptions adopted by the Board of Actuaries and published in the Federal Register on March 20, 2015, as required by 5 U.S.C. 8461(i).

DATES: We must receive your comments by June 2, 2015.

ADDRESSES: You may submit comments, identified by docket number and/or RIN number RIN 3206-AN16 by any of the following methods:

• Federal eRulemaking Portal: http://www.regulations.gov. Follow the instructions for submitting comments.

• Email: combox@opm.gov. Include RIN number 3206-AN16 in the subject line of the message.

• Mail: Jim Giuseppe, Retirement Policy, Retirement Services, Office of Personnel Management, 1900 E. Street NW., Washington, DC 20415-3200.

FOR FURTHER INFORMATION CONTACT: Roxann Johnson, (202) 606-0299.

SUPPLEMENTARY INFORMATION: On March 20, 2015, OPM published a notice in the Federal Register to revise the normal cost percentages under the Federal Employees' Retirement System (FERS) Act of 1986, Public Law 99-335, 100 Stat. 514, as amended, based on demographic factors adopted by the Board of Actuaries of the Civil Service Retirement System. 80 FR 15,036 (March 20, 2015). By statute under 5 U.S.C. 8461(i), the demographic factors require corresponding changes in factors used to produce actuarially equivalent benefits when required by the FERS Act.

Section 843.311 of title 5, Code of Federal Regulations, regulates the benefits for the survivors of separated employees under 5 U.S.C. 8442(c). This section provides a choice of benefits for eligible current and former spouses. If the current or former spouse is the person entitled to the unexpended balance under the order of precedence at 5 U.S.C. 8424, he or she may elect to receive the unexpended balance instead of an annuity.

Alternatively, an eligible current or former spouse may elect to receive an annuity commencing on the day after the employee's death or on the deceased separated employee's 62nd birthday. If the annuity commences on the deceased separated employee's 62nd birthday, the annuity will equal 50 percent of the annuity that the separated employee would have received had he or she attained age 62. If the current or former spouse elects the earlier commencing date, the annuity is reduced using the factors in Appendix A to subpart C of part 843 to make the annuity actuarially equivalent to the present value of the annuity that the spouse or former spouse would have received if the annuity had commenced on the retiree's 62nd birthday. These rules amend that appendix to conform to the revised demographic assumptions.

Executive Order 12866, Regulatory Review

This rule has been reviewed by the Office of Management and Budget in accordance with Executive Order (E.O.) 12866, as amended by E.O. 13258 and E.O. 13422.

Regulatory Flexibility Act

I certify that this regulation will not have a significant economic impact on a substantial number of small entities because the regulation will only affect retirement payments to surviving current and former spouses of former employees and Members who separated from Federal service with title to a deferred annuity.

List of Subjects in 5 CFR Part 843

Air traffic controllers, Disability benefits, Firefighters, Government employees, Law enforcement officers, Pensions, Retirement.

U.S. Office of Personnel Management.
Katherine Archuleta,
Director.

For the reasons stated in the preamble, the Office of Personnel Management proposes to amend 5 CFR part 843 as follows:

PART 843—FEDERAL EMPLOYEES RETIREMENT SYSTEM—DEATH BENEFITS AND EMPLOYEE REFUNDS

1. The authority citation for part 843 continues to read as follows:

Authority: 5 U.S.C. 8461; §§ 843.205, 843.208, and 843.209 also issued under 5 U.S.C. 8424; § 843.309 also issued under 5 U.S.C. 8442; § 843.406 also issued under 5 U.S.C. 8441.

Subpart C—Current and Former Spouse Benefits

2. Revise Appendix A to subpart C of part 843 to read as follows:

Appendix A to Supart C of Part 843—Present Value Conversion Factors for Earlier Comencing Date of Annuities of Current and Former Spouses of Diseased Separated Employees

With at least 10 but less than 20 years of creditable service—

Age of separated employee at birthday before death | Multiplier
26 | .0726
27 | .0792
28 | .0859
29 | .0930
30 | .1002
31 | .1081
32 | .1165
33 | .1252
34 | .1343
35 | .1443
36 | .1550
37 | .1664
38 | .1786
39 | .1914
40 | .2053
41 | .2200
42 | .2358
43 | .2528
44 | .2710
45 | .2905
46 | .3114
47 | .3337
48 | .3580
49 | .3839
50 | .4118
51 | .4419
52 | .4745
53 | .5097
54 | .5477
55 | .5889
56 | .6336
57 | .6822
58 | .7350
59 | .7926
60 | .8556
61 | .9244

With at least 20, but less than 30 years of creditable service—

Age of separated employee at birthday before death | Multiplier
36 | .1810
37 | .1943
38 | .2086
39 | .2236
40 | .2398
41 | .2570
42 | .2754
43 | .2953
44 | .3166
45 | .3394
46 | .3638
47 | .3899
48 | .4182
49 | .4485
50 | .4812
51 | .5164
52 | .5545
53 | .5955
54 | .6400
55 | .6881
56 | .7404
57 | .7972
58 | .8590
59 | .9264

With at least 30 years of creditable service—

Age of separated employee at birthday before death | Multiplier by separated employee's year of birth: After 1966 | Multiplier by separated employee's year of birth: From 1950 through 1966
46 | .4561 | .4910
47 | .4889 | .5264
48 | .5244 | .5646
49 | .5624 | .6055
50 | .6035 | .6497
51 | .6476 | .6973
52 | .6954 | .7487
53 | .7469 | .8042
54 | .8027 | .8643
55 | .8631 | .9294
56 | .9287 | 1.0000

[FR Doc. 2015-07747 Filed 4-2-15; 8:45 am]

BILLING CODE 6325-38-P